DEPARTMENT OF THE INTERIOR

National Park Service

Concession Contracts

AGENCY: National Park Service, Interior.

ACTION: Public notice.

SUMMARY: Pursuant to 36 CFR 51.23, public notice is hereby given that the National Park Service proposes to extend the following expiring concession contract for a period of up to one year, or until such time as a new contract is executed, whichever occurs sooner.

SUPPLEMENTARY INFORMATION: The listed concession authorization will expire by its terms on April 14, 2004. The National Park Service has determined that the proposed short-term extension is necessary in order to avoid interruption of visitor services and has taken all reasonable and appropriate steps to consider alternatives to avoid such interruption. This extension will allow the National Park Service to complete and issue a prospectus leading to the competitive selection of a concessioner for a new long-term concession contract covering this operation.

Concid ID No. | Concessioner name | Park
INDE001-94 | City Tavern, Concepts by Staib, Ltd | Independence National Historic Park.

EFFECTIVE DATE: January 2, 2004.

FOR FURTHER INFORMATION CONTACT: Cynthia Orlando, Concession Program Management, National Park Service, Washington, DC 20240, Telephone 202/513-7156.

Dated: November 11, 2003.
Richard G. Ring
Associate Director, Administration, Business Practices and Workforce Development.

[FR Doc. 03-31935 Filed 12-29-03; 8:45 am]

BILLING CODE 4312-53-M